DEPARTMENT OF JUSTICE

Office of Justice Programs

[OJP (OCR) Docket No. 1668]

Hearings of the Review Panel on Prison Rape

AGENCY: Office of Justice Programs, Justice.

ACTION: Notice of hearing.

SUMMARY: The Office of Justice Programs (OJP) announces that the Review Panel on Prison Rape (Panel) will hold hearings in Washington, DC, on August 28, 2014. The hearing times and location are noted below. The purpose of the hearings is to assist the Bureau of Justice Statistics (BJS) in identifying common characteristics of victims and perpetrators of sexual victimization in U.S. prisons and jails, and the common characteristics of U.S. prisons and jails with the highest and lowest incidence of sexual victimization, respectively, based on anonymous surveys by the BJS of inmates in representative samples of U.S. prisons and jails. In May 2013, the BJS issued the report Sexual Victimization in Prisons and Jails Reported by Inmates, 2011-12. The report provides a listing of prisons and jails grouped according to the prevalence of reported sexual victimization, and formed the basis of the Panel's decision about which prison and jail facilities would be the subject of testimony. These hearings will supplement the record that the Panel developed during its January 8, 2014, hearings on sexual victimization in certain U.S. prisons and jails.

DATES: The hearing schedule is as follows:

1. Thursday, August 28, 2014, 8:30 a.m. to 11:15 a.m.: Mabel Bassett Correctional Center, Oklahoma Department of Corrections—facility with a high prevalence of sexual victimization; Jackie Brannon Correctional Center, Oklahoma Department of Corrections—facility with a low prevalence of sexual victimization; Richard L. Smothermon, District Attorney, 23rd Judicial District of Oklahoma; and Viktoria Kristiansson, Attorney Advisor, AEquitas: The Prosecutors' Resource on Violence Against Women.

2. Thursday, August 28, 2014, 11:15 a.m. to 12:00 p.m.: Cameron County Carrizales-Rucker Detention Center, Cameron County, Tex., Sheriff's Office—facility with a low incidence of sexual victimization.

ADDRESSES: The hearings will take place at the Office of Justice Programs Building, Main Conference Room, Third Floor, U.S. Department of Justice, 810 7th Street NW., Washington, DC 20531.

FOR FURTHER INFORMATION CONTACT: Christopher P. Zubowicz, Designated Federal Official, OJP, Christopher.Zubowicz@usdoj.gov, (202) 307-0690. [Note: This is not a toll-free number.]

SUPPLEMENTARY INFORMATION: The Panel, which was established pursuant to the Prison Rape Elimination Act of 2003, Public Law 108-79, 117 Stat. 972 (codified as amended at 42 U.S.C. 15601-15609 (2012)), will hold its next hearings to carry out the review functions specified at 42 U.S.C. 15603(b)(3)(A). Testimony from these supplemental hearings will assist the Panel in carrying out its statutory obligations. The witness list is subject to amendment; please refer to the Review Panel on Prison Rape's Web site at http://www.ojp.usdoj.gov/reviewpanel/reviewpanel.htm for any updates regarding the hearings schedule. Space is limited at the hearings location. Members of the public who wish to attend the hearings in Washington, DC, must present government-issued photo identification upon entrance to the Office of Justice Programs. Special needs requests should be made to Christopher P. Zubowicz, Designated Federal Official, OJP, Christopher.Zubowicz@usdoj.gov or (202) 307-0690, at least one week before the hearings.

Michael Alston,
Director, Office for Civil Rights, Office of Justice Programs.

[FR Doc. 2014-19298 Filed 8-14-14; 8:45 am]

BILLING CODE 4410-18-P